DEPARTMENT OF LABOR

Bureau of Labor Statistics

Proposed Collection, Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. The Bureau of Labor Statistics (BLS) is soliciting comments concerning the proposed revision of the “Report on Current Employment Statistics.” A copy of the proposed information collection request (ICR) can be obtained by contacting the individual listed below in the Addresses section of this notice.

DATES: Written comments must be submitted to the office listed in the ADDRESSES section of this notice on or before May 31, 2011.

ADDRESSES: Send comments to Carol Rowan, BLS Clearance Officer, Division of Management Systems, Bureau of Labor Statistics, Room 4080, 2 Massachusetts Avenue, NE., Washington, DC 20212. Written comments also may be transmitted by fax to 202-691-5111 (this is not a toll free number).

FOR FURTHER INFORMATION CONTACT: Carol Rowan, BLS Clearance Officer, 202-691-7628 (this is not a toll free number). (See ADDRESSES section.)

SUPPLEMENTARY INFORMATION:

I. Background

The Current Employment Statistics (CES) program provides current monthly statistics on employment, hours, and earnings, by industry and geography. CES estimates are among the most visible and widely-used Principal Federal Economic Indicators (PFEIs). CES data are also among the timeliest of the PFEIs, with their release each month by BLS in the Employment Situation, typically on the first Friday of each month. The statistics are fundamental inputs in economic decision processes at all levels of government, private enterprise, and organized labor.

The CES monthly estimates of employment, hours, and earnings are based on a sample of U.S. nonagricultural establishments. Information is derived from approximately 290,600 reports (from a sample of 140,000 employers with State Unemployment Insurance (UI) accounts comprised of 440,000 individual worksites), as of January 2011. Each month, firms report their employment, payroll, and hours on forms identified as the BLS-790. The sample is collected under a probability based design. Puerto Rico and the Virgin Islands collect an additional 5,600 reports using a quota sample.

A list of all form types currently used appears in the table below. Respondents receive variations of the basic collection forms, depending on their industry.

The CES program is a voluntary program under Federal statute. Reporting to the State agencies is voluntary in all but four States (Oregon, Washington, North Carolina, South Carolina), Puerto Rico, and the Virgin Islands. To our knowledge, the States that do have mandatory reporting rarely exercise their authority. The collection form's confidentiality statement cites the Confidential Information Protection and Statistical Efficiency Act of 2002 and mentions the State mandatory reporting authority.

II. Current Action

Office of Management and Budget clearance is being sought for the Report on Current Employment Statistics.

Automated data collection methods are now used for most of the CES sample. Approximately 131,200 reports are received through Electronic Data Interchange as of January 2011. Web data collection accounts for 58,900 reports. Computer Assisted Telephone Interviewing is used to collect 62,000. Fax is also a significant collection mode, as 15,300 reports are collected via this method. Touchtone Data Entry is used for 10,900 reports. In comparison, only 5,700 reports are collected by mail.

The balance of the sample is collected through other automated methods including submission of tapes, diskettes, and email.

III. Desired Focus of Comments

The Bureau of Labor Statistics is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Type of Review: Revision of a currently approved collection.

Agency: Bureau of Labor Statistics.

Title: Report on Current Employment Statistics.

OMB Number: 1220-0011.

Affected Public: State or local governments; Businesses or other for-profit; Non-profit institutions.

Form | Reports | Minutes per report | Frequency of response | Annual responses | Annual burden hours
A—Mining and Logging | 1,400 | 11 | 12 | 16,800 | 3,080
B—Construction | 13,100 | 11 | 12 | 157,200 | 28,820
C—Manufacturing | 11,400 | 11 | 12 | 136,800 | 25,080
E—Service Providing Industries | 193,400 | 11 | 12 | 2,320,800 | 425,480
G—Public Administration | 47,400 | 6 | 12 | 568,800 | 56,880
S—Education | 9,800 | 6 | 12 | 117,600 | 11,760
F1, F2, F3 Fax Forms | 14,100 | 11 | 12 | 169,200 | 31,020
Total | 290,600 |  |  | 3,487,200 | 582,120

Total Burden Cost (capital/startup): $0.

Total Burden Cost (operating/maintenance): $0.

Comments submitted in response to this notice will be summarized and/or included in the request for Office of Management and Budget approval of the information collection request; they also will become a matter of public record.

Signed at Washington, DC, this 25th day of March 2011.
Kimberley Hill,
Chief, Division of Management Systems, Bureau of Labor Statistics.

[FR Doc. 2011-7451 Filed 3-29-11; 8:45 am]

BILLING CODE 4510-24-P